CONSUMER PRODUCT SAFETY COMMISSION

Public Meeting Concerning Upholstered Furniture Flammability Rulemaking

AGENCY: Consumer Product Safety Commission.

ACTION: Notice of public meeting.

SUMMARY: The Consumer Product Safety Commission (CPSC or Commission) will conduct a public meeting on Wednesday, September 24, 2003 to receive comments on the July 2003 CPSC staff briefing package on upholstered furniture flammability. The briefing package recommends that the Commission issue an advance notice of proposed rulemaking (ANPR) that could result in a mandatory flammability standard addressing upholstered furniture ignition by small open flames and/or smoldering cigarettes.¹ If the staff's recommendation was accepted, the Commission's ongoing proceeding under the Flammable Fabrics Act (FFA), 15 U.S.C. 1191-1204 addressing ignition of upholstered furniture by small open flame sources such as matches, cigarette lighters, and candles would be expanded to also include ignition by smoldering cigarettes.

¹ The staff briefing package and other materials pertinent to this rulemaking are available on the CPSC Web site at: http://www.cpsc.gov/library/foia/foia.html.

The Commission invites oral presentations from individuals, associations, firms, and government agencies with information or comments related to the briefing package. The Commission will consider these presentations in its deliberations on the staff recommendation.

DATES: The meeting will begin at 9 a.m. on Wednesday, September 24, 2003. Requests to make oral presentations, and 10 copies of the text of the presentation, must be received by the CPSC Office of the Secretary no later than September 17, 2003. Persons making presentations at the meeting should provide an additional 25 copies for dissemination on the date of the meeting.

Presentation texts should identify the author's affiliation with, or employment or sponsorship by, any entity with an interest in the Commission rulemaking on upholstered furniture flammability.

The Commission reserves the right to limit the number of persons who make presentations and the duration of their presentations. To prevent similar presentations, groups may be directed to designate a spokesperson.

ADDRESSES: The meeting will be in room 420 of the East-West Towers Building, 4330 East-West Highway, Bethesda, MD. Requests to make oral presentations, and texts of oral presentations should be captioned “Upholstered Furniture Flammability Rulemaking” and be mailed to the Office of the Secretary, Consumer Product Safety Commission, Washington, DC 20207, or delivered to that office, room 502, 4330 East-West Highway, Bethesda, Maryland 20814. Requests and texts of oral presentations may also be submitted by facsimile to (301) 504-0127 or by e-mail to cpsc-os@cpsc.gov.

FOR FURTHER INFORMATION CONTACT: For information about the purpose or subject matter of this meeting contact Dale Ray, Project Manager, Directorate for Economics, U.S. Consumer Product Safety Commission, Washington, DC 20207; telephone (301) 504-7704; e-mail: dray@cpsc.gov. For information about the schedule for submission of requests to make oral presentations and submission of texts of oral presentations, contact Rockelle Hammond, Office of the Secretary, Consumer Product Safety Commission, Washington, DC 20207; telephone (301) 504-6833; fax (301) 504-0127; e-mail: rhammond@cpsc.gov.

SUPPLEMENTARY INFORMATION:

A. Background

Cigarette-ignitions of upholstered furniture have long been a leading cause of residential fire deaths, injuries and property damage. The Commission has extensively investigated this risk since the 1970s, when the CPSC staff prepared a draft proposed cigarette ignition standard. In 1977, a furniture industry group, the Upholstered Furniture Action Council (UFAC), established a voluntary industry program as an alternative to CPSC rulemaking. The UFAC voluntary guidelines were amended in 1983, and are widely followed among manufacturers today.

In 1993 the National Association of State Fire Marshals (NASFM) petitioned the Commission to issue rules concerning the flammability of upholstered furniture when exposed to smoldering ignition, small open flame ignition and large open flame ignition sources. In 1994 the Commission acted to deny the petition insofar as it concerned large open flame ignition sources, to defer it insofar as it concerned smoldering ignition sources and to grant it insofar as it concerned small open flame sources. In 2001 the NASFM withdrew its petition.

Based on a 1996 CPSC survey, more than 85 percent of currently manufactured upholstered furniture (including products from non-UFAC member firms) meets the UFAC guidelines. Further, CPSC laboratory tests indicate that more than 80 percent of currently manufactured upholstered furniture resists cigarette ignition. However, cigarette-ignited fires involving upholstered furniture not made with cigarette-resistant materials constitutes a substantial proportion of overall fire losses. Thus, while the cigarette ignition risk is attributable to a relatively small proportion of currently produced upholstered furniture, the estimated societal costs associated with this risk are large.

The CPSC staff developed a draft small open flame standard for residential upholstered furniture that would prevent or limit fire growth following exposure to a small open flame.² The staff's draft standard does not directly address cigarette ignition resistance. However, CPSC laboratory testing suggests that flame retardant (FR) upholstery fabrics—identified by manufacturers as a likely means of limiting fire growth—would also reduce the risk of upholstered furniture fires ignited by smoldering cigarettes. About 80 percent of the projected safety benefits of a possible small open flame standard consist of reductions in cigarette fire losses.

² The most recent draft appears in the staff's October 2001 briefing package on upholstered furniture flammability. See fn. 1, supra, re obtaining this and other pertinent materials from the CPSC Web site.

The staff's October 2001 briefing package on upholstered furniture flammability presented options for possible continuing Commission action (e.g., a notice of proposed rulemaking on the small open flame ignition risk), and with respect to possible new action (e.g., an ANPR on the cigarette ignition risk).

In June 2002, the CPSC staff held a public meeting to obtain comments from stakeholders on all aspects of the Commission's proceeding on upholstered furniture. At the public meeting, the American Furniture Manufacturers Association (AFMA) stated their view that the Commission should promulgate a uniform national flammability standard for upholstered furniture. In a May 2, 2003 letter to Chairman Stratton, AFMA reiterated this position and recommended that a standard include requirements for upholstered furniture cigarette ignitability.

In a June 27, 2003 letter to Chairman Stratton, a group of six upholstery fabric manufacturers (the “Fabric Coalition”) also expressed support for a national mandatory flammability standard for upholstered furniture. The Fabric Coalition asserted that its recommended approach to a national standard would address both cigarette- and open flame-related fire losses.

A number of factors bear on whether CPSC should directly address the risk of cigarette-ignited upholstered furniture fires. These include the large proportion of fire losses resulting from cigarette ignitions, the importance of reducing this risk in any effective remedial action, the feasibility of risk-reducing remedies, and the adequacy of existing voluntary standards to address the risk.

B. The Public Meeting

The purpose of the public meeting is to provide a forum for oral presentations on the CPSC staff briefing package on upholstered furniture flammability, with emphasis on the factors noted above.

Participation in the meeting is open. See the DATES section of this notice for information on making requests to give oral presentations at the meeting and on submitting copies of presentation texts.

Dated: August 22, 2003.
Sandra K. Bradshaw,
Deputy Secretary, Consumer Product Safety Commission.

[FR Doc. 03-21936 Filed 8-26-03; 8:45 am]

BILLING CODE 6355-01-P